FEDERAL COMMUNICATIONS COMMISSION

47 CFR Part 73

[DA 07-3425; MB Docket No. 06-97; RM-11254]

Radio Broadcasting Services; Dundee and Odessa, NY

AGENCY: Federal Communications Commission.

ACTION: Final rule; dismissal.

SUMMARY: The staff dismisses a counterproposal filed by Bible Broadcasting Network, Inc. to allot Channel 238A to Savona, New York, as a first local aural service. The Media Bureau also modifies its Consolidated Data Base System to reflect Channel 238A at Odessa, New York, as the reserved assignment for Station WFLR-FM in lieu of Channel 238A at Dundee, New York in response to a proposal filed by Finger Lakes Radio Group, Inc., and modifies Station WFLR-FM's license and construction permit accordingly. The reference coordinates for Channel 238A at Odessa, NY, are 42-20-38 NL and 76-53-03 WL. With this action, the proceeding is terminated. See SUPPLEMENTARY INFORMATION.

ADDRESSES: Federal Communications Commission, 445 12th Street, SW., Washington, DC 20554.

FOR FURTHER INFORMATION CONTACT: Andrew J. Rhodes, Media Bureau, (202) 418-2180.

SUPPLEMENTARY INFORMATION: This is a synopsis of the Commission's Report and Order, MB Docket No. 06-97, adopted July 25, 2007, and released July 27, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

Finger Lakes Radio Group, Inc.'s proposal was formerly a rule change to Section 73.202(b), the FM Table of Allotments. See 71 FR 30856 (May 31, 2006). As a result of changes to the Commission's processing rules, modifications of FM channels for existing stations are no longer listed in Section 73.202(b) and are instead reflected in the Media Bureau's Consolidated Data Base System (CDBS). See Revision of Procedures Governing Amendments to FM Table of Allotments and Changes of Community of License in the Radio Broadcast Services, Report and Order, 21 FCC Rcd 14212 (December 20, 2006). Nevertheless, a summary of the Report and Order in the instant proceeding is being published in the Federal Register because the counterproposal involved a proposed amendment to Section 73.202(b). Although the Report and Order set forth an effective date of September 10, 2007, Station WFLR-FM's license and construction permit will be modified effective 30 days after publication of this summary in the Federal Register in compliance with Sections 1.427 and 1.429 of the Commission's rules.

This document is not subject to the Congressional Review Act. (The Commission is, therefore, not required to submit a copy of this Report and Order to GAO, pursuant to the Congressional Review Act, see 5 U.S.C. 801(a)(1)(A) because the counterproposal was dismissed.)

List of Subjects in 47 CFR Part 73

Radio, Radio broadcasting.

Federal Communications Commission.
John A. Karousos,
Assistant Chief, Audio Division, Media Bureau.

[FR Doc. E7-17021 Filed 8-29-07; 8:45 am]

BILLING CODE 6712-01-P